DEPARTMENT OF DEFENSE

Office of the Secretary

Defense Intelligence Agency, Science and Technology Advisory Board, Standing Committee of Emerging Chemical and Biological Technology Advisory Committee of Experts Closed Panel Meeting

AGENCY: Defense Intelligence Agency, Department of Defense.

ACTION: Notice.

SUMMARY: Pursuant to the provisions of Subsection (d) of Section 10 of Public Law 92-463, as amended by Section 5 of Public Law 94-409, notice is hereby given that a closed meeting of the DIA Science and Technology Advisory board, Standing Committee on Emerging Chemical and Biological Technology Advisory Committee of Experts has been scheduled as follows:

DATES: 13 & 14 February 2002 (0800am-1700pm).

ADDRESSES: San Diego, California 92118.

FOR FURTHER INFORMATION CONTACT: Mr. Jack A McNulty, Director, DIA Science and Technology Advisory Board, Standing Committee on Emerging Chemical and Biological Technology Advisory Committee of Experts, Washington, DC 20340-1328, telephone (202) 231-3507.

SUPPLEMENTARY INFORMATION: The entire meeting is devoted to the discussion of classified information as defined in Section 552b(c)(I), Title 5 of the U.S. Code, and therefore will be closed to the public. The Board will receive briefings on and discuss several current critical intelligence issues and advise the Director, DIA, on related scientific and technical matters.

Dated: January 31, 2002.
L.M. Bynum,
Alternate OSD Federal Register Liaison Officer, Department of Defense.

[FR Doc. 02-2769 Filed 2-5-02; 8:45 am]

BILLING CODE 5001-08-M